DEPARTMENT OF DEFENSE

Department of the Army

Privacy Act of 1974; System of Records

AGENCY: Department of the Army, DoD.

ACTION: Notice to amend system of records.

SUMMARY: The Department of the Army is proposing to amend the Preamble to its Compilation of Privacy Act systems of records notices by updating the telephone number of the POINT OF CONTACT.

DATES: This proposed action will be effective without further notice on March 28, 2005 unless comments are received which result in a contrary determination.

ADDRESSES: Department of the Army, Freedom of Information/Privacy Office Division, U.S. Army Records Management and Declassification Agency, ATTN: AHRC-PDD-FPZ, 7701 Telegraph Road, Casey Building, suite 144, Alexandria, VA 22325-3905.

FOR FURTHER INFORMATION CONTACT: Ms. Janice Thornton at (703) 428-6497.

SUPPLEMENTARY INFORMATION: The Department of the Army systems of records notices subject to the Privacy Act of 1974, (5 U.S.C. 552a), as amended, have been published in the Federal Register and are available from the address above.

The specific change to the Preamble is set forth below. The proposed amendment is not within the purview of subsection (r) of the Privacy Act of 1974, (5 U.S.C. 552a), as amended, which requires the submission of a new or altered system report.

Dated: February 18, 2005.
Jeannette Owings-Ballard,
OSD Federal Register Liaison Officer, Department of Defense.

Within the Preamble to the Department of the Army's Compilation of Privacy Act systems of records notices, revise the following entry to read as follows:

* * * * *

Point of Contact: Mrs. Rose Marie Christensen and Ms. Janice Thornton at (703) 428-64978. DSN 328-64978.

* * * * *

[FR Doc. 05-3669 Filed 2-24-05; 8:45 am]

BILLING CODE 5001-06-M